DEPARTMENT OF COMMERCE

International Trade Administration

(A-351-828)

Certain Hot-Rolled Flat-Rolled Carbon Quality Steel Products From Brazil; Notice of Extension of Time Limits for Preliminary Results of Antidumping Duty Administrative Review

AGENCY: Import Administration, International Trade Administration, Department of Commerce.

EFFECTIVE DATE: December 1, 2009.

FOR FURTHER INFORMATION CONTACT: Patrick Edwards or Dena Crossland, AD/CVD Operations, Office 7, Import Administration, International Trade Administration, U.S. Department of Commerce, 14th Street and Constitution Avenue, NW, Washington, DC 20230; telephone: (202) 482-8029 or (202) 482-3362, respectively.

SUPPLEMENTARY INFORMATION:

Background

On April 27, 2009, the Department of Commerce (the Department) published a notice of initiation of administrative review of the antidumping duty order on certain hot-rolled flat-rolled carbon quality steel products from Brazil. See Initiation of Antidumping and Countervailing Duty Administrative Reviews and Request for Revocation in Part, 74 FR 19042 (April 27, 2009). The period of review is March 1, 2008, through February 28, 2009, and the preliminary results are currently due no later than December 1, 2009. The review covers entries of subject merchandise produced/exported by Usinas Siderurgicas de Minas Gerais (USIMINAS) and Companhia Siderurgica Paulista (COSIPA).¹

¹ In prior segments of this proceeding, the Department treated USIMINAS and COSIPA as affiliated parties and collapsed these entities. See, e.g., Notice of Final Determination of Sales at Less Than Fair Value; Certain Hot-Rolled Flat-Rolled Carbon-Quality Steel Products from Brazil, 64 FR 38756, 38759 (July 19, 1999), and the accompanying Issues and Decision Memorandum at Comment 17.

Extension of Time Limit for Preliminary Results

Pursuant to section 751(a)(3)(A) of Tariff Act of 1930, as amended (the Act), the Department shall make a preliminary determination in an administrative review of an antidumping order within 245 days after the last day of the anniversary month of the date of publication of the order. Section 751(a)(3)(A) of the Act further provides, however, that the Department may extend the 245-day period up to 365 days if it determines it is not practicable to complete the review within the foregoing time period. We determine that it is not practicable to complete this administrative review within the time limits mandated by section 751(a)(3)(A) of the Act due to the complexity of the issues involved and the need to solicit more information from USIMINAS, regarding its affiliations and certain components of its claimed expenses and their calculation. Therefore, we have fully extended the deadline for completing the preliminary results by 120 days, to not later than March 31, 2010, in accordance with section 751(a)(3)(A) of the Act. The deadline for the final results of the review continues to be 120 days after the publication of the preliminary results.

This extension notice is published in accordance with sections 751(a)(3)(A) and 777(i) of the Act.

Dated: November 23, 2009.
John M. Andersen,
Acting Deputy Assistant Secretary for Antidumping and Countervailing Duty Operations.

[FR Doc. E9-28750 Filed 11-30-09; 8:45 am]

BILLING CODE 3510-DS-S